DEPARTMENT OF DEFENSE

Department of the Army, Corps of Engineers

Intent To Prepare a Draft and Final Supplemental Environmental Impact Statement for Reaches 1B, 1C and 1D on the Herbert Hoover Dike Major Rehabilitation Project, Martin and Palm Beach Counties

AGENCY: Department of the Army, U.S. Army Corps of Engineers, DOD.

ACTION: Notice of intent.

SUMMARY: The purpose of the project is to reconstruct and rehabilitate Reaches 1B, 1C and 1D of the Herbert Hoover Dike to prevent catastrophic failure of the system to retain the waters of Lake Okeechobee. On July 8 2005, the Jacksonville District, U.S. Army Corps of Engineers (Corps) issued a Final Supplemental Environmental Impact Statement (FSEIS) for the Major Rehabilitation actions proposed for Herbert Hoover Dike (HHD), Reach One. Herbert Hoover Dike is the levee that completely surrounds Lake Okeechobee. On September 23, 2005, a Record of Decision was signed adopting the preferred alternative as the Selected Plan for Reach One.

As plans and specifications were developed for Reach 1, it became apparent that the cut-off wall with seepage berm alternative would not work for all of Reach 1. The alternative for Reaches 1B, 1C and 1D will be a combination of one or more of the following features dependent on the geology and adjacent land factors with the cut-off wall: Seepage Berm, Relief Trench, Soil Replacement Wedge, Relief Wells, Drainage Feature and Sand Columns. Reaches 1B, 1C and 1D of the HHD extends for approximately 17.7 miles within Palm Beach County, from the 10A culvert south to L-14 at Belle Glade, Florida. The final full design of the cutoff wall and landside rehabilitation feature will include lands outside of the existing ROW. Therefore it is necessary to update the July 2005 SEIS for Reach 1 to include these new landside rehabilitation features and any impacts to lands outside of the existing ROW. This study is a cooperative effort between the Corps and the South Florida Water Management District (SFWMD).

ADDRESSES: U.S. Army Corps of Engineers, Planning Division, Environmental Branch, P.O. Box 4970, Jacksonville, FL 32232-0019.

FOR FURTHER INFORMATION CONTACT: Mr. William Porter at (904) 232-3206 or e-mail at William.L.Porter2@usace.army.mil.

SUPPLEMENTARY INFORMATION: a. The proposed action will be the selected plan described in the July 2005 Supplemental Environmental Impact Statement (SEIS) with the additional action of implementing the landside rehabilitation features as needed based on geology and adjacent land factors. The proposed action will not affect the Regulation Schedule for Lake Okeechobee. Land may have to be acquired outside of the existing right-of-way (ROW) and this SEIS will account for any impacts that result due to acquisition of additional real estate.

b. Alternatives to be considered separately for each subdivision of Reach 1 are dependant upon the geology and adjacent land factors with the cut-off wall. Reach 1 is divided into Subreaches A, B, C and D. The alternatives to be implemented include one or more of the following features: Seepage Berm, Relief Trench, Soil Replacement Wedge, Relief Wells, Sand Column and Drainage Feature.

c. A scoping letter will be used to invite comments on alternatives and issues from Federal, State, and local agencies, affected Indian Tribes, and other interested private organizations and individuals. A scoping letter was sent in October 2007 in anticipation of writing a single EIS for Reach 1. An additional scoping letter will be sent out in September 2009 to address the change in the process of the completing the Reach 1 Environmental Impact Statements. A scoping meeting is not anticipated.

d. A public meeting will be held after release of each of the Draft Supplemental EIS's. The public meeting is anticipated to be held in February 2010 for Reaches 1B, 1C and 1D in Clewiston, FL. The exact location, date, and times will be announced in a public notice and local newspapers.

e. A Major Rehabilitation Evaluation Report (MRR) was approved by Congress in the Water Resources Development Act (WRDA) 2000 that addressed the need to repair the aging dike.

Dated: July 15, 2009.
Eric P. Summa,
Chief, Environmental Branch.

[FR Doc. E9-17903 Filed 7-27-09; 8:45 am]

BILLING CODE 3720-58-P